DEPARTMENT OF THE INTERIOR

Geological Survey

[GX15EN05ESB0500]

Agency Information Collection Activities: Request for Comments

AGENCY: U.S. Geological Survey (USGS), Interior.

ACTION: Notice of a revision of a currently approved information collection (1028-096).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on 8/31/2016.

DATES: To ensure that your comments are considered, we must receive them on or before November 2, 2015.

ADDRESSES: You may submit comments on this information collection to the Information Collection Clearance Officer, U.S. Geological Survey, 12201 Sunrise Valley Drive, MS 807, Reston, VA 20192 (mail); (703) 648-7197 (fax); or gs-info_collections@usgs.gov (email). Please reference ‘Information Collection 1028-0096, NATIONAL CLIMATE CHANGE AND WILDLIFE SCIENCE CENTER AND DEPARTMENT OF THE INTERIOR CLIMATE SCIENCE CENTERS (NCCWSC/CSC)’ in all correspondence.

FOR FURTHER INFORMATION CONTACT: Robin O'Malley, National Climate Change and Wildlife Science Center, U.S. Geological Survey, 12201 Sunrise Valley Drive, Mail Stop 516, Reston, VA 20192 (mail); 703-648-4086 (phone); or romalley@usgs.gov (email). You may also find information about this ICR at www.reginfo.gov.

SUPPLEMENTARY INFORMATION:

I. Abstract

The U.S. Geological Survey National Climate Change and Wildlife Science Center (NCCWSC, https://nccwsc.usgs.gov) was established to provide scientific information on climate impacts and adaptation for use in decision making by managers of fish, wildlife and their ecosystems. Under Secretarial Order 3289, https://www.doi.gov/sites/doi.gov/files/migrated/whatwedo/climate/cop15/upload/SecOrder3289.pdf, NCCWSC established and manages a network of eight Department of the Interior Climate Science Centers (CSC; https://www.doi.gov/csc/). These centers provide regional expertise and decision support for managers of natural and cultural resources from federal, state, tribal and other sectors. CSCs are collaborative efforts between USGS and institutions or consortia of institutions that provide scientific expertise, academic training, scientific liaison, and other functions associated with the CSC mission.

NCCWSC collects two types of information from the public as part of this enterprise. The first consists of proposals from institutions or consortia that wish to serve as hosts and partners in the operation of CSCs. USGS uses the information from these proposals in the selection of institutions or consortia to serve as hosts and partners. Agreements are for set periods of time (generally five years); thus, when the agreement for a specific CSC is nearing its termination date, USGS will solicit proposals and determine whether to enter another agreement with the same institution/consortium or with another institution/consortium.

USGS also currently collects information from institutions that serve as hosts for CSCs. This information includes quarterly financial statements (Standard Form 425) and annual progress reports. These reports address both the overarching agreement to host the CSC and individual research projects funded under that overarching agreement. In the future, USGS may enter into agreements with partner institutions in a consortium, in addition to the “host,” as is current practice. If such agreements are executed, USGS will request information from both the host and partner institutions. This information is used to evaluate the performance of the institutions/consortia with respect to the agreements.

II. Data

OMB Control Number: 1028-0096.

Form Number: Standard form 425. Other information not collected in a form.

Title: NATIONAL CLIMATE CHANGE AND WILDLIFE SCIENCE CENTER AND DEPARTMENT OF THE INTERIOR CLIMATE SCIENCE CENTERS (NCCWSC/CSC).

Type of Request: Revisions to a currently approved collection.

Affected Public: Institutions that are eligible to propose to serve as CSC host or partner institutions include Federal, state, not-for-profit, local government, and tribal entities, including academic institutions. Existing host institutions are academic institutions.

Respondent's Obligation: None, participation is voluntary.

Frequency of Collection: Proposals for new CSC host/partner agreements are collected approximately every five years for any individual CSC. However, because CSCs were not all established in one year, and agreement terms may be extended to address specific circumstances, such proposals may be requested during any year. Information is collected from institutions with whom USGS has an agreement to serve as a CSC host or partner and for individual research projects funded under these agreements on a quarterly and annual basis.

Estimated Total Number of Annual Responses: USGS expects to request proposals for a maximum of three CSCs in any year, and to receive an average of five proposals per CSC-request, for a total of fifteen proposals in any single year. USGS expects to enter into agreements with a minimum of eight CSC host institutions, and as many as fifteen additional CSC partner institutions. Thus USGS would request quarterly and annual information addressing host and partner agreements from an estimated twenty-three institutions. In addition, USGS expects approximately forty requests per year addressing specific research projects funded under these hosting agreements.

Estimated Time per Response: Each proposal for CSC hosting is expected to take 200 hours to complete. The time required to complete quarterly and annual reports for any specific host/partner or research project agreement is expected to total twenty hours per agreement (not per report).

Estimated Annual Burden Hours: A maximum of 4260 hours.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Shawn Carter,
Acting Chief, National Climate Change and Wildlife Science Center.

[FR Doc. 2015-21620 Filed 8-31-15; 8:45 am]

BILLING CODE 4311-AM-P